DEPARTMENT OF THE TREASURY

Internal Revenue Service

26 CFR Part 1

[TD 9207]

RIN 1545-AX93

Assumption of Partner Liabilities; Correction

AGENCY: Internal Revenue Service (IRS), Treasury.

ACTION: Correction to final regulations.

SUMMARY: This document corrects final regulation (TD 9207) that were published in the Federal Register on Thursday, May 26, 2005 (70 FR 30334). The final regulation relates to the definition of liabilities under section 752 of the Internal Revenue Code.

DATES: This correction is effective on May 26, 2005.

FOR FURTHER INFORMATION CONTACT: Laura Fields (202) 622-3050 (not a toll-free number).

SUPPLEMENTARY INFORMATION:

Background

The final regulations (TD 9207) that is the subject of this correction are under sections 358, 704, 705, 737 and 752 of the Internal Revenue Code.

Need for Correction

As published, TD 9207 contains an error that may prove to be misleading and is in need of clarification.

Correction of Publication

Accordingly, the publication of the final regulations (TD 9207), that was the subject of FR Doc. 05-10266, is corrected as follows:

On page 30337, column 3, that paragraph heading “4. Section 752-7 Liability”, the language “4. Section 752-7 Liability” is corrected to read “4. Section 1.752-7 Liability”.

Cynthia Grigsby,
Acting Chief, Publications and Regulations Branch, Legal Processing Division, Associate Chief Counsel (Procedure and Administration).

[FR Doc. 05-12757 Filed 6-28-05; 8:45 am]

BILLING CODE 4830-01-M